DEPARTMENT OF JUSTICE

Antitrust Division

Notice Pursuant to the National Cooperative Research and Production Act of 1993—Testing of Methods for Measuring Hydrocarbon Dew Points in Natural Gas Streams

Notice is hereby given that, on March 20, 2007, pursuant to Section 6(a) of the National Cooperative Research and Production Act of 1993, 15 U.S.C. 4301 et seq. (“the Act”), Southwest Research Institute (“SwRI”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Ametek/Process & Analytical, Pittsburgh, PA; Gas Processors Association, Tulsa, OK; Michell Instruments Inc., Danbury, CT; and Pipeline Research Council International, Inc., Arlington, VA. The general area of SwRI's planned activity is to evaluate existing instruments to objectively measure hydrocarbon dew points in natural gas. Emphasis will be placed on accuracy, repeatability, and response time of hydrocarbon dew point measurements. This project is proposed to resolve technical issues associated with the determination of natural gas quality by the industry.

Membership in this research group remains open, and the participants intend to file additional written notification disclosing all changes in membership or planned activities.

Patricia A. Brink,
Deputy Director of Operating, Antitrust Division.

[FR Doc. 07-1870 Filed 4-13-07; 8:45 am]

BILLING CODE 4410-11-M